DEPARTMENT OF JUSTICE

[AAG/A Order No. 011-2004]

Privacy Act of 1974; System of Records

AGENCY: Drug Enforcement Administration, Department of Justice.

ACTION: Notice of Modifications to System of Records.

SUMMARY: Pursuant to the provisions of the Privacy Act of 1974, as amended (5 U.S.C. 552a), the Drug Enforcement Administration (DEA), Department of Justice, is modifying its Privacy Act system of records entitled: “Automated Records and Consolidated Orders System/Diversion Analysis and Detection System” (ARCOS/DADS), JUSTICE/DEA-003. This system of records was last published in the Federal Register on April 28, 2000 (65 FR 24986). However, in error, a page of text was omitted in the last publication. This modified notice provides the text missing from the previous publication and makes updates in other parts of the notice.

DATES: This notice will be effective September 27, 2004.

SUPPLEMENTARY INFORMATION: Information added, which was missing in the last publication include the “Purpose” section of the notice and the “Routine Uses” section of the notice.

In accordance with 5 U.S.C. 552a(e)(4) and (11), the public is given a 30-day period in which to comment; and the Office of Management and Budget (OMB), which has oversight responsibility of the Act, requires a 40-day period in which to conclude its review of the system. Therefore, please submit comments by September 27, 2004. The public, OMB, and Congress are invited to submit comments to: Mary Cahill, Management and Planning Staff, Justice Management Division, Department of Justice, 1331 Pennsylvania Ave., NW., Washington, DC 20530 (1400 National Place Building).

In accordance with 5 U.S.C. 552a (r), the Department has provided a report to OMB and Congress.

Dated: August 6, 2004.
Paul R. Corts,
Assistant Attorney General for Administration.

DEPARTMENT OF JUSTICE

JUSTICE/DEA-003

System Name:

Automated Records and Consolidated Orders System/Diversion Analysis and Detection System (ARCOS/DADS).

Security Classification:

Not Classified.

System Location:

Drug Enforcement Administration, 700 Army Navy Drive, Arlington, VA 22202. Field offices are identified on the DEA website at www.dea.gov.

Categories of Individuals Covered by the System:

Persons registered with the DEA under the Comprehensive Drug Abuse Prevention and Control Act of 1970. This includes any person who manufactures, manages, distributes, or proposes to manufacture, manage, or distribute any controlled substance or List 1 chemical, and every person who dispenses or proposes to dispense any controlled substance. Typically, these persons include licensed professionals such as doctors, dentists, pharmacists, or pharmaceutical manufacturers, as well as importers and chemical manufacturers.

Categories of Records in the System:

The information contained in this system consists of documentation of individual business transactions between individuals who handle controlled substances at every level, from manufacturers down to ultimate consumers. Records include copies of controlled substances inventories, drug codes, deletion and adjustment reports, receipts, purchase orders, and prescriptions, and include the date of the transaction, the name, quantity, and quality of the chemicals/substances purchased or dispensed, the parties to the transaction, and the DEA registrant numbers. This information provides an audit trail of all manufactured and/or imported controlled substances. Information can be retrieved from this system of records by use of various data elements such as name, address, DEA registrant number, name of business, or social security number.

Authority for Maintenance of the System:

This system of records is maintained pursuant to the reporting requirements of the Comprehensive Drug Abuse Prevention and Control Act of 1970 (21 U.S.C. 826(d)) and to fulfill the United States treaty obligations under the Single Convention on Narcotic Drugs and the Convention on Psychotropic Substances of 1971.

Purpose:

This system is used to track and report the transfer of pharmaceuticals and to detect potential diversion.

Routine Uses of Records Maintained in the System, including Categories of Users and the Purposes of Such Uses:

Information contained in this system may be disclosed to the following categories of users for the purposes stated:

A. Where a record, either on its face or in conjunction with other information, indicates a violation or potential violation of law—criminal, civil, or regulatory in nature—the relevant records may be referred to the appropriate federal, state, local, foreign, or tribal, law enforcement authority or other appropriate agency charged with the responsibility of investigating or prosecuting such a violation or enforcing or implementing such law.

B. To the International Narcotics Control Board as required by United States treaty obligations.

C. To the news media and the public pursuant to 28 CFR 50.2 unless it is determined that release of the specific information in the context of a particular case would constitute an unwarranted invasion of personal privacy.

D. To a Member of Congress or staff acting upon the Member's behalf when the Member or staff requests the information on behalf of and at the request of the individual who is the subject of the record.

E. To the National Archives and Records Administration in records management inspections conducted under the authority of 44 U.S.C. 2904 and 2906.

F. To contractors, grantees, experts, consultants, students, and others performing or working on a contract, service, grant, cooperative agreement, or other assignment for the Federal Government, when necessary to accomplish an agency function related to this system of records.

G. The Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Disclosure to consumer reporting agencies:

Not applicable.

Policies and Practices for Storing, Retrieving, Accessing, Retaining, and Disposing of Records in the System:

Storage:

All automated data files associated with ARCOS/DADS are maintained in the Department of Justice Data Center and the Drug Enforcement Administration Data Center.

Retrievability:

Records on individuals are retrieved by name and DEA registration number.

Safeguards:

The portion of the records maintained in DEA headquarters is protected by twenty-four hour guard service and electronic surveillance. Access to all DEA facilities is restricted to DEA employees and those persons transacting business within the building who are escorted by DEA employees. Access to the system is restricted to DEA employees who have appropriate security clearances on a need to know basis. Access to automated records requires user identification numbers which are issued to authorized DEA employees.

Retention and Disposal:

Input data received from registrants is maintained for 60 days for backup purposes and then destroyed by shredding or electronic erasure. ARCOS master inventory records are retained for eight consecutive calendar quarters. As the end of a new quarter is reached, the oldest quarter of data is purged from the record. ARCOS transaction history will be retained for a maximum of five years and then destroyed.

System Manager(s) and Address:

Deputy Assistant Administrator, Office of Diversion Control, Drug Enforcement Administration, Washington, DC 20537.

Notification Procedure:

Inquiries should be addressed to Freedom of Information Section, Drug Enforcement Administration, Washington, DC 20537. Inquiries should include inquirer's name, date of birth, and social security number.

Record Access Procedures:

Same as the above.

Contesting Record Procedures:

Same as the above.

Record Source Categories:

Information is obtained from registrants under the Comprehensive Drug Abuse Prevention and Control Act of 1970 (21 U.S.C. 826(d)).

Exemptions Claimed For the System:

The Attorney General has exempted this system from subsections (c)(3) and (d) of the Privacy Act pursuant to 5 U.S.C. 552a(k)(2). These exemptions are codified at 28 CFR 16.98. Rules have been promulgated in accordance with the requirements of 5 U.S.C. 553 (b), (c) and (e).

[FR Doc. 04-18827 Filed 8-16-04; 8:45 am]

BILLING CODE 4410-05-P